DEPARTMENT OF AGRICULTURE

Natural Resources Conservation Service

[Docket ID NRCS-2019-0015]

Adoption of Another Agency's Final Environmental Impact Statement To Implement the Feral Swine Eradication and Control Pilot Program

AGENCY: Natural Resources Conservation Service (NRCS), U.S. Department of Agriculture (USDA).

ACTION: Notice of Availability for the Record of Decision (ROD).

SUMMARY: NRCS announces the availability of the agency's Record of Decision (ROD) to adopt the Final Environmental Impact Statement (FEIS), “Feral Swine Damage Management: A National Approach EIS”, prepared by the U.S. Department of Agriculture's Animal and Plant Health Inspection Service (APHIS), under the Environmental Impact Statement (EIS) adoption provisions of the Council on Environmental Quality (CEQ).

FOR FURTHER INFORMATION CONTACT: Martin Lowenfish, Branch Chief for Areawide Planning, Natural Resources Conservation Service, at Martin.Lowenfish@usda.gov or (202) 690-4979. Persons with disabilities who require alternative means for communication should contact the USDA Target Center at (202) 720-2600 (voice).

SUPPLEMENTARY INFORMATION: NRCS will adopt the FEIS titled, “Feral Swine Damage Management; A National Approach EIS”, prepared by APHIS under the EIS adoption provisions of CEQ) regulations (40 CFR 1506.3). NRCS is taking this action to address the mandates in section 2408 of the Agriculture Improvement Act of 2018 (2018 Farm Bill, Pub. L. 115-334) to provide financial assistance for a Feral Swine Eradication and Control Pilot Program in collaboration with APHIS. The purpose of the pilot program, as stated in the Act, is to respond to the threat feral swine pose to agriculture, native ecosystems, and human and animal health. NRCS's actions under section 2408 of the 2018 Farm Bill are narrower than the scope of the larger APHIS effort defined in the FEIS and are limited to providing financial assistance specifically for outreach, training, equipment, and operations for feral swine trapping, consistent with APHIS technical standards. Subsequent actions, including disposal, are the responsibility of those carrying out the trapping activities, and must occur consistent with all associated Federal, State, and local laws. The details on the FEIS were provided in the published Notice of Intent to adopt FEIS dated on July 17, 2019 (84 FR 34118) and associated Notice of Availability published by the U.S. Environmental Protection Agency (84 FR 32168). Two comments were received in response to these notices. The first, submitted by the State Department of Land and Natural Resources, in support of the actions and methods defined in the FEIS and is appended to this NOA. The second, submitted by a private citizen indicating they disagreed with this use of Federal funding. The Agriculture Improvement Act of 2018 left no discretion to the agency concerning this matter.

The ROD is available by requesting a copy at the above address. Documentation developed during the agency's review of the FEIS is on file and may be reviewed by contacting Martin Lowenfish at the above number.

No administrative action on implementation of the proposal will be taken until 30 days after the date of this publication in the Federal Register.

Kevin Norton,
Associate Chief, Natural Resources Conservation Service.

[FR Doc. 2019-22652 Filed 10-16-19; 8:45 am]

BILLING CODE 3410-16-P